DEPARTMENT OF JUSTICE

National Institute of Corrections

Solicitation for a Cooperative Agreement—Core Competencies for Corrections Learning and Performance Professionals

AGENCY: National Institute of Corrections, U.S. Department of Justice.

ACTION: Solicitation for a Cooperative Agreement.

SUMMARY: The National Institute of Corrections (NIC) is soliciting proposals from organizations, groups, or individuals to enter into a cooperative agreement for a 12-month period to begin no later than September 15, 2013. Work under this cooperative agreement will involve the development of a core competency model and a corresponding complement of competency assessment instruments. The model will identify the core competencies both of learners in a corrections agency and corrections learning and performance staff. NIC will use the model to assess its current learning catalog and to conduct ongoing needs analysis regarding learning and performance in corrections via the data it collects from the assessment instruments. Corrections professionals will use the model and assessment instruments as a skills gap analysis, professional development tool, and human resource management tool that will assist them with staff selection and retention, performance management, and succession management. This project will be a collaborative venture with the NIC Academy Division.

NIC Opportunity Number: 13AC09. This number should appear in the reference line in your cover letter, on Standard Form 424 in section 11 with the title of your proposal, and in the right justified header of your proposal.

Number of Awards and Funds Available: Under this solicitation, 1 Award will be made. The total amount of funds available under this solicitation is $100,000.00. Funds awarded under this solicitation may only be used for activities directly related to the project as described herein unless otherwise amended in writing by NIC.

Applications: All applicants must be submitted electronically via http://www.grants.gov. Hand delivered, mailed, faxed, or emailed applications will not be accepted.

DATES: Application must be submitted before midnight on Thursday, August 8, 2013.

Authority: Public Law 93-415.

Eligibility of Applicants: An eligible applicant is any public or private agency, educational institution, organization, individual or team with expertise in the described areas.

SUPPLEMENTARY INFORMATION: Background: As NIC envisions its work with corrections learning professionals in the 21st century, we foresee multiple challenges, including major shifts in staff roles and responsibilities, learning delivery methods, the role of technology, and the incorporation of research-based practices into program design and delivery. These shifts call for the reassessment of the knowledge, skills, attitudes, characteristics, and traits necessary for learning and performance staff to achieve superior performance on the job and for the development of a competency model that will place learning professionals in a position to enhance the performance of their agency.

NIC has identified the core roles in corrections learning and performance as (1) Learning Administrator: Full-time learning program staff member with a leadership role, approving authority for curriculum, budget, staffing, etc. (i.e., agency training director); (2) Full-Time Learning Professional: Full-time learning program staff responsible for program coordination, including delivery, administrative review, and record keeping (i.e., facility or agency training coordinator); (3) Adjunct Learning Professional: Part-time learning program staff responsible for delivery of content but whose primary job duties are outside the training department (i.e., firearms instructor or field training officer); (4) Learning Designer: Full- or part-time learning program staff responsible for designing learning content; and (5) Learner: Correctional staff member who participates in learning events voluntarily or as a requirement of his or her position.

NIC defines competency as a collection of knowledge, skills, traits, characteristics, and attitudes that are demonstrated through superior performance that optimizes organizational outcomes. Competencies are related not just to a job but to superior performance on a job.

A proposal responsive to this solicitation should, at a minimum, identify a plan to address the scope and timeframe of the project, determine the methodology necessary to develop staff profiles and ascertain the core competencies essential for superior performance by corrections learning and performance professionals, and identify a team that includes members with learning and performance subject matter expertise, project management experience, and experience in the development and implementation of assessment instruments.

Scope of Work: The qualified applicant team will be able to: Develop a profile for each of the five identified core roles in corrections learning and performance programs and include a narrative description with the role title, scope of authority, responsibilities, associated tasks, and commonly held positions associated with the title;

Identify emerging roles in corrections learning and performance and future implications for the competency model;

Identify core competencies for each of the five staff profiles;

Develop a narrative description of each core competency, including its definition, knowledge base, relevant research and theory, primary skills, characteristics and traits of high performers, available tools and resources for developing proficiency in the competency;

Develop a narrative description of the attitudes and behaviors of staff who reflect proficiency at the basic, intermediate, and advanced level for each core competency;

Compile the profile and competency data into final publication document(s);

Design and implement a self-assessment instrument that will identify an end-user's current level of proficiency in the competencies associated with a staff profile. The instrument must be in a file format that is compatible with electronic delivery and that can be housed in NIC's Learning Management System.

Deliverables: At a minimum, the awardee will deliver the following products in complete and compliant form: (1) A narrative review of the entire project; (2) profiles for each of the five identified roles in corrections learning and performance; (3) a roster of core competencies for each of the identified profiles, with descriptive narrative for each competency; (4) written documents for publication that include the project narrative, staff profiles, and core competencies; and (6) a self-assessment instrument for each of the staff profiles.

FOR FURTHER INFORMATION CONTACT: All technical or programmatic questions concerning this announcement should be directed to Amanda Hall, Correctional Program Specialist, National Institute of Corrections who may be reached by email at a4hall@bop.gov. In addition to the direct reply, all questions and responses will be posted on NIC's Web site at www.nicic.gov for public review (the names or affiliations of those submitting questions will not be posted). The Web site will be updated regularly and postings will remain on the Web site until the closing date of this cooperative agreement solicitation.

Application Requirements: Application Requirements: Applications should be typed, double spaced, in 12-point font, and reference the project by the “NIC Opportunity Number 13AC09” and title in this announcement, “Core Competencies for Corrections Learning and Performance Professionals.” The package must include: A cover letter that identifies the audit agency responsible for the applicant's financial accounts as well as the audit period or fiscal year that the applicant operates under (e.g., July 1 through June 30); a concisely written program narrative, not to exceed 30 numbered pages, in response to the statement of work, and a detailed budget with a budget narrative explaining projected costs. Applicants may submit a description of the project teams' qualifications and expertise relevant to the project, but should not attach lengthy resumes. Attachments to the proposal describing your organization or examples of other past work beyond those specifically requested above are discouraged. These attachments should not exceed 5MB.

The following forms must also be included: OMB Standard Form 424, Application for Federal Assistance; OMB Standard Form 424A, Budget information—Non-Construction Programs; OMB Standard Form 424B, Assurances—Non-Construction Programs (these forms are available at http://www.grants.gov) and DOJ/NIC Certification Regarding Lobbying; Debarment, Suspension and Other Responsibility Matters; and the Drug-Free Workplace Requirements (available at http://nicic.gov/Downloads/General/certif-frm.pdf

Failure to supply all required forms with the application package may result in disqualification of the application from consideration.

Note: NIC will not award a cooperative agreement to an applicant who does not have a Dun and Bradstreet Database Universal Number (DUNS) and is not registered in the System for Award Management (SAM).

A DUNS number can be received at no cost by calling the dedicated toll-free DUNS number request line at 1-800-333-0505 (if you are a sole proprietor, you would dial 1-866-705-5711 and select option 1).

Registration in the SAM can be done online at the SAM Web site: https://www.sam.gov/portal/public/SAM/

Review Considerations: Applications received under this announcement will be subject to the NIC Review Process. Proposals which fail to provide sufficient information to allow evaluation under the criteria below may be judged non-responsive and disqualified. The criteria for the evaluation of each application will be as follows:

Programmatic (40%)

Are all of the project tasks adequately discussed? Is there a clear statement of how each task will be accomplished, to include the overall project goal(s), major tasks to achieve the goal(s), the strategies to be employed in completing the tasks, required staffing, and other required resources? Are there any approaches, techniques, or design aspects proposed that are new to NIC and will enhance the project?

Organizational (35%)

Do the proposed project staff members possess the skills, knowledge, and expertise necessary to complete the tasks listed under the scope of work? Does the applicant organization, group, or individual have the organizational capacity to complete all project tasks? Does the proposal contain project management and staffing plans that are realistic and sufficient to complete the project within the project time frame?

Project Management/Administration (25%)

Does the applicant identify reasonable objectives and/or milestones that reflect the key tasks, and measures to track progress? If consultants and/or partnerships are proposed, is there a reasonable justification for their inclusion in the project, and a clear structure to ensure effective coordination? Is the proposed budget realistic, does it provide a sufficient cost detail/narrative, and does it represent good value relative to the anticipated results?

Specific Requirements: Documents or other media that are produced under this award must follow these guidelines: Prior to the preparation of the final draft of any document or other media, the awardee must consult with NIC's Writer/Editor concerning the acceptable formats for manuscript submissions and the technical specifications for electronic media. For all awards in which a document will be a deliverable, the awardee must follow the guidelines listed herein, as well as follow the Guidelines for Preparing and Submitting Manuscripts for Publication as found in the “General Guidelines for Cooperative Agreements,” which can be found on our Web site at www.nicic.gov/cooperativeagreements.

All final documents and other materials submitted under this project must meet the federal government's requirement for Section 508 accessibility, including those provisions outlined in 1194 Subpart B, Technical Provisions, Subpart C, Functional Performance Criteria; and Subpart D, Documentation and Support, NIC's government product accessibility template (see www.nicic.gov/section508) outlines the agency's minimum criteria for meeting this requirement; a completed form attesting to the accessibility of project deliverables should accompany all submissions.

Note Concerning Catalog of Federal Domestic Assistance Number: The Catalog of Federal Domestic Assistance (CFDA) should be entered into box 10 of the SF 424. The CFDA number for this solicitation is 16.603—Technical Assistance/Clearinghouse. You are subject to the provisions of Executive Order 12372. The order allows states the option of setting up a system for reviewing applications from within their states for assistance under certain Federal programs. You must notify the Single State Point of Contact in your state, if it exists, of this application before NIC can make an award. Applicants (other than Indian tribal governments recognized by the Federal government) should contact their State Single Point of Contact (SPOC), a list of which can be found at http://www.whitehouse.gov/omb/grants_spoc. Check the appropriate box in section 16 of the SF-424.

Robert M. Brown, Jr.,
Acting Director, National Institute of Corrections.

[FR Doc. 2013-17495 Filed 7-19-13; 8:45 am]

BILLING CODE 4410-36-P